DEPARTMENT OF THE TREASURY

Internal Revenue Service

Electronic Tax Administration Advisory Committee; Meeting of the Advisory Committee

AGENCY: Internal Revenue Service, Treasury.

ACTION: Notice of meeting of Electronic Tax Administration Advisory Committee.

SUMMARY: Meeting of the Electronic Tax Administration Advisory Committee (ETAAC) will be held virtually and by teleconference (a portion of which will be open to the public).

DATES: The meeting will be held March 16-17, 2021.

ADDRESSES: Meeting of the ETAAC will be held virtually and by teleconference.

FOR FURTHER INFORMATION CONTACT: Mr. William S. Parman. Email: PublicLiaison@irs.gov. Telephone (202) 317-6247 (not a toll-free number).

SUPPLEMENTARY INFORMATION: Notice is hereby given pursuant to section 10(a)(2) of the Federal Advisory Committee Act, 5 U.S.C. App., that a meeting of the ETAAC will be held virtually by Zoom and teleconference on Tuesday, March 16, 2021, and Wednesday, March 17, 2021.

The purpose of the meeting is to discuss topics and questions that may be recommended for inclusion in a future report of the Committee.

A determination has been made as required by section 10(d) of the Federal Advisory Committee Act, 5. U.S.C. App. 2, that the portions of the meeting dealing with issue briefings and fact-finding related to securing the federal tax system against identity theft and refund fraud fall within the exceptions to the open meeting requirement set forth in 5 U.S.C. 552b(c)(9)(B), and that the public interest requires that such portions be closed to public participation.

The portion of the meeting dealing with other topics will begin at 3 p.m. EST on March 17, 2021, and will continue for as long as necessary to complete the discussion, but not beyond 4 p.m. EST. Time permitting, after the close of this discussion by ETAAC members, interested persons may make statements germane to this subject. Persons wishing to make oral statements should contact Mr. William S. Parman at PublicLiaison@irs.gov and include the written text or outline of comments they propose to make orally. Such comments will be limited to 10 minutes in length. Persons who wish to attend the public session should contact Mr. William S. Parman at PublicLiaison@irs.gov to obtain teleconference access instructions. Notifications of intent to make an oral statement or to attend the meeting must be sent electronically no later than March 12, 2021. In addition, any interested person may file a written statement for consideration by the ETAAC by sending it to PublicLiaison@irs.gov.

Dated: Feb. 23, 2021.
John A. Lipold,
Designated Federal Officer, Electronic Tax Administration Advisory Committee.

[FR Doc. 2021-04080 Filed 2-26-21; 8:45 am]

BILLING CODE P